DEPARTMENT OF HEALTH AND HUMAN SERVICES

Centers for Disease Control and Prevention

[60Day-04-56]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an e-mail to omb@cdc.gov. Written comments should be received within 60 days of this notice.

Proposed Project

ACHES (Arthritis Conditions Health Effects Survey)—New—National Center for Chronic Disease Prevention and Health Promotion (NCCDPHP), Centers for Disease Control and Prevention (CDC).

Background

Arthritis and other rheumatic conditions are among the most prevalent diseases and are the most frequent cause of disability in the United States. Health care costs for arthritis were estimated at $86.2 billion for 1997. In 2001, an estimated 33% of U.S. adults (70 million) reported prior diagnosis of arthritis or chronic joint symptoms. As the U.S. population increasingly “grays,” the economic and disability burden from arthritis will only grow.

Fortunately, arthritis can be successfully managed and its impacts lessened. Exercise, weight loss, medications, joint replacement surgeries and educational and sociobehavioral interventions can decrease pain as well as improve physical function and quality of life and reduce health care costs. Unfortunately, relatively little is known nationally about persons with arthritis or chronic joint symptoms to better target these interventions. Current national health surveys and databases have extremely limited coverage about arthritis and the myriad of issues surrounding the conditions.

CDC plans to conduct ACHES (Arthritis Conditions Health Effects Survey) to close the information gaps about arthritis. ACHES is a national random digit dial telephone survey dedicated solely to arthritis for the purpose of gathering information on symptoms, limitations, physical functioning levels, effects of arthritis on work, knowledge and attitudes about arthritis, self management of arthritis, current physical activity, anxiety, depression, and demographics of 4,500 persons age 45 years and older with arthritis. The information from it will be used to better direct and target national arthritis control efforts. There is no cost to respondents.

Respondents | No. of respondents | No. of responses/ respondent | Avg. burden/ response (in hrs) | Total burden hours
Screened adult | 25,000 | 1 | 3/60 | 1,250
Adult over 45 with arthritis | 4,500 | 1 | 30/60 | 2,250
Total | 29,500 |  |  | 3,500

Dated: May 26, 2004.
Alvin Hall,
Director, Management Analysis and Services Office, Centers for Disease Control and Prevention.

[FR Doc. 04-12439 Filed 6-1-04; 8:45 am]

BILLING CODE 4163-18-P